DEPARTMENT OF DEFENSE

Department of the Air Force

[Docket ID USAF-2009-0048]

Privacy Act of 1974; System of Records

AGENCY: Department of the Air Force, DoD.

ACTION: Notice to add a system of records.

SUMMARY: The Department of the Air Force proposes to add a system of records to its inventory of record systems subject to the Privacy Act of 1974 (5 U.S.C. 552a), as amended.

DATES: The proposed action will be effective on September 8, 2009, unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6489.

SUPPLEMENTARY INFORMATION: The Department of the Air Force's notices for systems of records subject to the Privacy Act of 1974 (5 U.S.C. 552a), as amended, have been published in the Federal Register and are available from the address above.

The proposed system report, as required by 5 U.S.C. 552a(r) of the Privacy Act of 1974, as amended, was submitted on July 17, 2009, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: July 21, 2009.
Patricia L. Toppings,
OSD Federal Register Liaison Officer, Department of Defense.

SYSTEM IDENTIFIER: F065 AFMC A

System Name:

Defense Enterprise Accounting and Management System (DEAMS).

System Location:

Defense Information Systems Agency Montgomery, 401 East Moore Drive, Building 857, Maxwell-AFB, Gunter Annex, Montgomery, AL 36114-3001, and Air Force installations financial management offices.

Categories of Individuals Covered by the System:

Government civilians, suppliers, customers, Active Duty Air Force, Air Force Reserve, and Air National Guard military personnel.

Categories of Records in the System:

Data includes name, date of birth, mailing address, service work location (duty station), job order number, Air Force Specialty Code (AFSC), rank, grade, employee number, Social Security Number (SSN), personal bank account number, information concerning individual records of appointment or assignment; official authenticated time and attendance records, individual leave records, information on employee's federal, state and local tax withholding and allotments.

Authority for Maintenance of the System:

5 U.S.C. 301, Departmental Regulations; Department of Defense Financial Management Regulation (DoDFMR) 7000.14-R Vol. 4; 5 U.S.C. Sections 5335, General Schedule Pay Rates; 5531, Government Organization and Employees; and 5533, Dual Pay and Dual Employment; and E.O. 9397 (SSN), as amended.

Purpose(s):

This system replaces the financial accounting legacy systems with a new system. DEAMS provides an integrated solution maintaining general ledger, accounts payable, accounts receivable, financial reporting, and billing information for the government.

Routine Uses of Records Maintained in the System Including Categories of Users and the Purposes of Such Use:

In addition to those disclosures generally permitted under 5 U.S.C. 552a(b) of the Privacy Act of 1974, these records contained therein may specifically be disclosed outside the Department of Defense as a routine use pursuant to 5 U.S.C. 552a(b)(3) as follows:

The “DoD Blanket Routine Uses” published at the beginning of the Air Force's compilation of systems of records notices apply to this system.

Policies and Practices for Storing, Retrieving, Accessing, Retaining, and Disposing of Records in the System:

Storage:

Paper records and electronic storage media.

Retrievability:

Personal information is retrieved by name, Social Security Number (SSN), or employee number.

Safeguards:

System data is maintained in a controlled facility. Physical entry is restricted by the use of locks, guards, and is accessible only to authorized personnel. Access to records is limited to person(s) responsible for servicing the record in performance of their official duties and who are properly screened and cleared for a need-to-know. User access is managed by the Common Access Card authentication and valid Personal Identification Number.

Retention and Disposal:

All records and data in the system will be retained based on the schedules defined in Defense Finance and Accounting Service 5015.2-M, Records Disposition Schedule. Paper records and DVDs are shredded, electronic records are degaussed.

System Manager and Address:

Program Manager, Director Enterprise Finance, 554 ELSG/ED, Bldg. 266, Rm S230, 4225 Logistics Ave., Wright-Patterson AFB, OH 45433-5769.

Notification Procedures:

Individuals seeking to determine whether this system of records contains information on themselves should address written inquiries to Director, Enterprise Finance, 554 ELSG/ED, Bldg. 266, Rm S230, 4225 Logistics Ave., Wright-Patterson AFB, OH 45433-5769.

Request must contain full name, Social Security Number (SSN), current mailing address, and signature.

Record Access Procedures:

Individuals seeking access to information about themselves contained in this system of records should address written inquiries to Director, Enterprise Finance, 554 ELSG/ED, Bldg. 266, Rm S230, 4225 Logistics Ave., Wright-Patterson AFB, OH 45433-5769.

Request must contain full name, Social Security Number (SSN), current mailing address, date of birth, service number and signature must be certified or attested to (the validity of a signature on a document) by a notary public.

Contesting Records Procedures:

The Air Force rules for accessing records, and for contesting contents and appealing initial agency determinations are published in Air Force Instruction 37132, Controlling Internal, Public, and Interagency Air Force Information Collections; 32 CFR part 806b; or may be obtained from the system manager.

Record Source Categories:

DEAMS receives data from personnel records.

Exemptions Claimed for the System:

None.

[FR Doc. E9-18899 Filed 8-6-09; 8:45 am]

BILLING CODE 5001-06-P